DEPARTMENT OF JUSTICE

Antitrust Division

Notice Pursuant to the National Cooperative Research and Production Act of 1993_The Frame Relay Forum

Notice is hereby given that, on December 8, 1999, pursuant to Section 6(a) of the National Cooperative Research and Production Act of 1993, 15 U.S.C. 4301 et seq. (“the Act”), The Frame Relay Forum (FRF) has filed written notifications simultaneously with the Attorney General and the Federal Trade Commission disclosing changes in its membership status. The notifications were filed for the purpose of extending the Act's provisions limiting the recovery of antitrust plaintiffs to actual damages under specified circumstances. Specifically, ASC, Vienna, VA; TeraGen, San Jose, CA; Science Dynamics, Cherry Hill, NJ; Advantel S.A., Garza Garcia, Nuevo Leon, MEXICO; and T-DATA, Bonn, GERMANY have joined FRF as worldwide members. Ascend Communication, Westford, MA has changed its name to Lucent Technologies, Westford, MA; and Hewlett Packard, Colorado Springs, CO has changed its name to Agilent Technologies, Colorado Springs, CO.

No other changes have been made in either the membership or planned activity of the group research project. Membership in this group research project remains open, and The Frame Relay Forum (FRF) intends to file additional written notification disclosing all changes in membership.

On April 10, 1992, The Frame Relay Forum (FRF) filed its original notification pursuant to Section 6(a) of the Act. The Department of Justice published a notice in the Federal Register pursuant to Section 6(b) of the Act on July 2, 1992 (57 FR 29537).

The last notification was filed with the Department on July 22, 1999. A notice was published in the Federal Register pursuant to Section 6(b) of the Act on December 2, 1999 (64 FR 67589).

Constance K. Robinson,
Director of Operations Antitrust Division.

[FR Doc. 00-10600 Filed 4-27-00; 8:45 am]

BILLING CODE 4410-11-M